DEPARTMENT OF DEFENSE

Department of the Navy

Notice of Availability of Government-Owned Inventions; Available for Licensing

AGENCY: Department of the Navy, DoD.

ACTION: Notice.

SUMMARY: The inventions listed below are assigned to the United States Government as represented by the Secretary of the Navy. U.S. Patent No. 7,515,096: Program to Generate an Aircrew Display Aid to Assess Jam Effectiveness, Navy Case No. 98911//U.S. Patent No. 7,511,657: Aircrew Display Aid to Assess Jam Effectiveness, Navy Case No. 98910//U.S. Patent application Serial Number 12/040,412: Dynamic Replanning Algorithm for Aircrew Display Aid to Assess Jam Effectiveness, Navy Case No. 99021, filed on February 29, 2008//U.S. Patent application Serial Number 12/040,452: Method for Using a Dynamic Mission Replanning Algorithm as an Aid to Assess Jam Effectiveness, Navy Case No. 99022, filed on February 29, 2008//U.S. Patent application Serial Number 12/417,301: Program to Generate an Aircrew Display Aid to Assess JAM Effectiveness, Navy Case No. 99810, filed on September 12, 2007.

ADDRESSES: Requests for copies of the inventions cited should be directed to Naval Air Warfare Center Weapons Division, Code 498400D, 1900 N. Knox Road Stop 6312, China Lake, CA 93555-6106 and must include the Navy Case number.

FOR FURTHER INFORMATION CONTACT: Michael D. Seltzer, Ph.D., Head, Technology Transfer Office, Naval Air Warfare Center Weapons Division, Code 4L4000D, 1900 N. Knox Road Stop 6312, China Lake, CA 93555-6106, telephone: 760-939-1074, FAX: 760-939-1210, E-mail: michael.seltzer@navy.mil.

Authority: 35 U.S.C. 207, 37 CFR Part 404.7.

Dated: December 3, 2009.
A.M. Vallandingham,
Lieutenant Commander, Judge Advocate General's Corps, U.S. Navy, Federal Register Liaison Officer.

[FR Doc. E9-29465 Filed 12-9-09; 8:45 am]

BILLING CODE 3810-FF-P